DEPARTMENT OF TRANSPORTATION

Federal Highway Administration

[FHWA Docket No. FHWA-2005-23328

Implementation of the Highways for LIFE Pilot Program

AGENCY: Federal Highway Administration (FHWA), USDOT.

ACTION: Notice; request for comments on proposed implementation of Highways for LIFE Pilot Program.

SUMMARY: This document contains the proposed implementation plan of Section 1502 of the Safe, Accountable, Flexible, Efficient Transportation Equity Act: A Legacy for Users (SAFETEA-LU) for the Highways for LIFE (HfL) Pilot Program to offer the opportunity for comment into the development of the final implementation document. LIFE is an acronym for “Long-lasting, Innovative, Fast construction of Efficient and safe pavements and bridges.” The purpose of the HfL Pilot Program is to accelerate the rate of adoption of innovations and technologies, thereby improving safety and highway quality while reducing congestion caused by construction. This will be accomplished through technology transfer, technology partnerships, information dissemination, incentive funding of up to 20 percent, but not more than $5 million on Federal-aid highway projects (eligible for assistance under Chapter 1 of title 23, United States Code) and HfL program accountability.

DATES: Comments must be received on or before February 28, 2006.

ADDRESSES: Mail or hand deliver comments to the U.S. Department of Transportation, Dockets Management Facility, Room PL-401, 400 Seventh Street, SW., Washington, DC 20590, or submit electronically at http://dms.dot.gov or fax comments to (202) 493-2251. Alternatively, comments may be submitted via the Federal eRulemaking Portal at http://www.regulations.gov. All comments should include the docket number that appears in the heading of this document. All comments received will be available for examination and copying at the above address from 9 a.m. to 5 p.m., e.t., Monday through Friday, except Federal holidays. Those desiring notification of receipt of comments must include a self-addressed, stamped postcard or may print the acknowledgment page that appears after submitting comments electronically. Anyone is able to search the electronic form of all comments received into any of our dockets by the name of the individual submitting the comment (or signing the comment, if submitted on behalf of an association, business, labor union, etc.). Persons making comments may review DOT's complete Privacy Act Statement in the Federal Register published on April 11, 2000 (Volume 65, Number 70, Pages 19477-78), or may visit http://dems.dot.gov.

FOR FURTHER INFORMATION CONTACT: Ms. Kathleen Bergeron, Office of Infrastructure, HIHL-1, (202) 366-5508; Mr. Michael Harkins, Office of the Chief Counsel, HCC-30, (202) 366-4928; Federal Highway Administration, 400 Seventh Street, SW., Washington, DC 20590-0001. Office hours are from 7:45 a.m. to 4:15 p.m., e.t., Monday through Friday, except Federal holidays.

SUPPLEMENTARY INFORMATION:

Electronic Access and Filing

You may submit or retrieve online through the Document Management system (DMS) at: http://dmses.dot.gov/submit. The DMS is available 24-hours each day, 365 days each year. Electronic submission and retrieval help and guidelines are available under the help section of the Web site.

An electronic copy of this document may be downloaded by using the Internet to reach the Office of the Federal Register's Home page at http://www.archives.gov and the Government Printing Office's Web site at http://www.access.gpo.gov/nara.

HfL Pilot Program

This notice presents the proposed implementation plan for the HfL Pilot Program, as outlined in Sections 1101 and 1502 of the Safe, Accountable, Flexible, Efficient Transportation Equity Act: A Legacy for Users (SAFETEA-LU) (Pub. L. 109-59, August 10, 2005), and it provides an opportunity for comment into the development of the final implementation document.

Reflecting on the condition of existing highways and the traditional processes used for building new ones, the American public has expressed, through national and local surveys, public meetings, and other means, a need for an improved driving experience. Elements such as reducing congestion in construction work zones, reducing construction time, a need for improved levels of safety and quality, and more cost effective approaches have become the subject of much concern.

Congress intended the HfL pilot program to incentivize the use of innovative technologies and practices with the expectation that safe, efficient highways and bridges can be built faster, and with greater durability. The legislation reflects an understanding that the best approach to improving the quality of the highway system is made by working through the individuals and organizations charged with designing, building, and operating it. HfL intends to create an atmosphere that encourages and enables the rapid adoption of innovations in the design, construction and operation of highways.

The HfL program has six program elements, which are discussed in detail below. These program elements are as follows: Technology transfer, technology partnerships, information dissemination, projects, funding, and accountability.

Technology Transfer

The key approach for improving the quality of the highway system is the application of existing but under-utilized, high payoff highway innovations, such as, equipment, techniques, processes, materials and management processes. The key to using these innovations is a knowledgeable workforce that is aware of the benefits and committed to improving the driving experience of all Americans.

The purpose of the technology transfer initiative is to train, inform, motivate, enable and equip the highway community workforce to more efficiently deliver projects that meet the HfL Pilot Program performance goals using the above mentioned innovations. Components of the technology transfer program may include technology training for public and private sector personnel, a knowledge exchange Web site where practitioners can log on and share ideas, technology workshops, and HfL project showcases demonstrating the actual use of the technology. The phrase, “technology transfer” has long been used to describe the process for taking such infrequently used innovations and making them standard approaches that a transportation agency is comfortable using on a day-to-day basis. Unfortunately, it has traditionally taken years or even decades to bring about such adoptions. This delay is not merely a factor of limited resources, workload, lack of awareness, and conservatism on the part of agency staffs, but also a lack of a standard concentrated approach for rolling out innovations. As part of the HfL program, a major effort will be undertaken to develop an improved technology transfer process to significantly speed the adoption of innovations. This improved technology transfer process will be piloted focusing on a few innovations.

Specifically, FHWA is proposing an innovation in each of the areas of safety, congestion and quality. These innovations need to be national in scope and have the potential for adding significant benefits to the highway community and highway users. The FHWA has already proposed three innovations that meet the HfL criteria: Prefabricated Bridge Systems and Elements; ¹ Road Safety Audits; ² and “Making Work Zones Work Better.” ³ Focusing on these three innovations does not mean that they are requirements for any proposed HfL-funded project. On the contrary, as outlined later in this document, any innovation that addresses the HfL performance goals may be used in an HfL-funded project.

¹ For more information on Prefabricated Bridge Elements and systems go to: http://www.fhwa.dot.gov/bridge/prefab/.

² For more information on Road Safety Audits go to: http://safety.fhwa.dot.gov/index.htm.

³ For more information on “Making Work Zones Work Better” go to: http://www.ops.fhwa.dot.gov/wz/index.asp.

Additional technology transfer efforts would be provided by the HfL program through an innovations workshop for each HfL-funded project. The workshop may be similar in scope and structure to the Accelerated Construction Technology Transfer ⁴ workshops sponsored by the American Association of State Highway and Transportation Officials (AASHTO) and FHWA.

⁴ For more information on ACTT go to: http://www.fhwa.dot.gov/construction/accelerated.

Technology Partnerships

Within the HfL Pilot Program, Technology Partnerships are intended to foster the development, improvement and creation of innovative technologies and facilities, including the use of proprietary products, technologies or methodologies. Due to limited resources, the FHWA intends to focus this element of the HfL program on refining and improving existing innovations for application on highway construction. The FHWA would enter into either a grant or cooperative agreement with public or private organizations to jointly fund or otherwise participate in adapting and/or making market-ready innovations to support the HfL Pilot Program. These agreements may be with traditional partners in the highway construction business or other organizations outside of the highway industry, which have promising innovations that can be made ready for timely implementation.

The HfL Technology Partnerships have a two-fold purpose: First, they are intended to foster the implementation of under-utilized innovations that will improve the safety, speed of highway construction, quality, cost effectiveness, and durability of pavements and bridges. Second, they provide an opportunity for those not involved in construction of the HfL projects aspect of the program to participate in, contribute to, and benefit from the program.

The HfL Technology Partnerships would provide financial impetus needed to move some of the many proven but underutilized innovations and methods into routine practice in the highway industry. Innovations brought forward through the technology partnerships may be used in the HfL Projects and promoted through HfL technology transfer and information dissemination.

To be considered for participation, the innovation must have been used successfully in highway, transportation, or in some related venue which has a clear potential for successful use in the United States highway industry.

A detailed approach to technology partnerships has not yet been developed because this is an area where stakeholder and industry input is needed. Due to the desire to obtain input, as well as the lower level of funding in the first year of the HfL program, it is proposed that funding for Technology Partnerships would begin in fiscal year 2007. However some deviations may be necessary, since the HfL technology partnerships effort focuses on proven technologies, rather than research. The FHWA is interested in feedback on approaches to technology partnerships.

Information Dissemination

An essential component of transferring technology is information dissemination, including the communication of the HfL goals, concepts and services. Communicating the HfL story is critical for several reasons: First, without a high level of communication, there would be no “technology transfer;” innovative approaches would remain with those people who initially employed them. Secondly, recounting others' successes tends to instill within organizations a higher level of competition and peer-pressure to keep up with the rest of the community.

Although Information Dissemination is a major element of Technology Transfer, the importance of this communication element within the overall HfL Pilot Program is sufficient to create a separate category of activities. One key reason is that others, outside the primary audience of individuals and organizations who design, build, and operate the nation's highways, need to be informed as well about safer, less congested and improved quality highways and bridges. The driving public, for example, needs to be a key recipient because they are the ultimate beneficiaries of the overall effort. Providing the information starts the dialog to ensure that activities undertaken within the program really are pertinent to improving the public's driving experience. Finally, the public needs to be informed because public opinion can be a major motivator to getting individuals and organizations who are slow to adopt innovations to move faster. Telling the public about the highway community's push for better roads and the HfL projects builds goodwill and shows an appropriate level of responsiveness to the public's need. It demonstrates that the highway community is being a good steward of the public trust. It also has the potential to show highway builders the benefits of using HfL approaches on more of their projects.

A key tool for information dissemination would be the publicizing HfL success stories, showing how innovation can improve safety, reduce construction-related congestion, and improve quality, and why it is beneficial to pursue non-traditional approaches and innovations.

Communication tools such as publications, videos, special events, media relations, the Internet, and a web-based Community of Practice can be employed in getting information on the various elements of the HfL program to different audiences. Specifically, those audiences may include the highway community, academia, associated industries and private sector groups, schools, elected officials, media, and the public in general.

Another facet of information dissemination will be publicizing the success of each of the HfL demonstration projects. This will be accomplished at the local, regional and national levels and will be done during and after construction. The focus in publicizing the HfL project success stories will be on the innovations, the resulting benefits and the people in the State DOT, Industry and Division Office that made it happen. One technique may be the establishment of an annual awards program and celebration for the HfL projects. Another technique would be a ribbon cutting ceremony for the HfL project. Additionally, HfL can work with other organizations such as the national Partnership on Highway Quality, industry associations, American Automobile Association, American Trucking Associations, State DOT Public Affairs offices in publicizing HfL projects and the people involved in constructing the projects. Positive information dissemination coupled with recognition will be used as a means to perpetuate the behavior and outcomes achieved on the HfL projects.

Projects

While training such as that outlined previously in the technology transfer section is important, the challenge is to get the transportation professional to put that training to use on an actual project. Such on-the-job experience will be provided through the Projects activity of the HfL program. State transportation agencies will be asked to submit applications to the FHWA Division Offices for HfL incentives for specific projects where it intends to employ innovations that it was not used or rarely used in its State.

Funding construction projects within the HfL program will allow for detailed documentation of the potential improvements in safety, construction-related congestion and quality that can be achieved through the application of innovations on actual projects. It may also serve as a new business model for how a State manages its highway project delivery process. The demonstration will involve showing the highway community and the public how the HfL projects are designed, built, and perform. Widespread demonstration of successes will, in turn, provide the impetus for more widespread application of the performance goals and innovations in the future.

Performance Goals

Paragraphs (a)(3) and (b)(4)(A) of Section 1502 of SAFETEA-LU makes reference to “performance standards.” In the HfL program, the term “performance standards” are also synonymous with “performance goals,” which define the desired end result to be achieved on the projects. The FHWA has selected performance goals to put the emphasis on the highway motorist's needs, to foster the acceptance and adoption of innovations, and to reinforce the need to address all goals—safety, congestion, user satisfaction, and quality—in every project. The individual HfL performance goals would be set at levels representing the best the highway community has and is able to produce.

In proposing performance goals for HfL projects, the FHWA considered whether a candidate goal has a highway community accepted definition, metric, measure, method, procedure, process and/or equipment. Candidate goals were evaluated with these considerations since it is expected that the State and its contractor(s) will be monitoring the goals for the design and/or construction of HfL projects.

It is FHWA's intention that the approved HfL projects would include the Performance Goals in each of the goal areas. The performance goals being considered for the first year of HfL projects include:

Safety

• Work Zone Safety During Construction—work zone crash rate of 20 percent less than State-wide average;

• Worker Safety During Construction—worker injury rate of 20 percent less than the most recent national average;

• Facility Safety After Construction—20 percent reduction in fatalities and injuries as reflected in 3-year average crash rates, using pre-construction rates as the baseline.

Construction Congestion

• Faster Construction—reduce by 50 percent the duration that highway users are impacted by construction as compared to traditional methods;

• Trip Time During Construction—less than 10 percent reduction in the average pre-construction speed using 100 percent sampling; or

• Queue Length During Construction—the line of vehicles passing through the construction work zone should be less than 0.5 mile long for traveling speeds less than 10 mph, or less than 1.5 miles long for traveling at speeds 20 percent or less than the posted speed limit.

Quality

• Smoothness—an inertial Profile, International Roughness Index (IRI) of less than 48 inches/mile.

• Noise—a close Proximity (CPX) noise measurement of less than 96.0 decibels.

User satisfaction

• User satisfaction—project construction surveys will be used to determine user satisfaction in two areas: (1) How satisfied the user is with the new facility, compared with its previous condition, and (2) how satisfied the user is with the approach used to construct the new facility in terms of minimizing disruption. A five-point Likert scale ⁵ will be used for measurement, and the goal for each area will be 4+. ⁶

⁵ For more information on the Likert scale go to: http://en.wikipedia.org/wiki/Likert_scale.

⁶ A typical question using a Likert scale poses a statement and ask the respondent whether he strongly agrees-agrees-is undecided-disagrees or strongly disagrees.

The FHWA is interested in feedback concerning the following specific aspects of application of the HfL performance goals:

• Should the performance goals be adjusted to consider project factors such as class of road, traffic volume, cost of the project, size of the project, current project conditions as related to safety, congestion and quality?

• Should the performance goals be adjusted to consider State DOT factors such as the current statewide average conditions for safety, construction congestion and quality, the current statewide average conditions for that class of road, or the current design standards and construction specifications?

Solicitation

An annual solicitation for HfL projects is planned for the Spring of 2006. The FHWA intends to publish a notice in the Federal Register requesting submittal of project applications. It is anticipated that a project solicitation will also be done in 2007, 2008 and 2009. Additionally, the announcement would be publicized through various other means, including posting on the World Wide Web, providing facilitation by the FHWA Division Offices, and through other outreach to the States. The State DOT would submit applications electronically to their FHWA Division Office. The application, along with FHWA Division recommendation would then be forwarded to FHWA headquarters.

Eligibility Criteria

Section 1502(b)(2) of SAFETEA-LU establishes the eligibility criteria for a project's participation in the HfL pilot program. The eligibility criteria includes:

• The project must construct, reconstruct, or rehabilitate a route or connection on a Federal-aid highway eligible for assistance under chapter 1 of title 23, United States Code; and

• The project must use innovative technologies, manufacturing processes, financing, or contracting methods that improve safety, reduce congestion due to construction, and improve quality.

Application Requirements

Section 1502(b)(1) of SAFETEA- requires States to submit an application to the Secretary in order for a project to participate in the HfL pilot program. This application must contain the following information:

• An identification and description of the project, including when the project will be ready for construction;

• An identification and description of the specific performance goals that are proposed for the project;

• A description of the innovative technologies, manufacturing processes, financing, and contracting methods that will be used for the proposed projects;

• A description of how the project will result in improved safety, reduced congestion due to construction, improved quality and user satisfaction; and

• Whether the State is willing to (a) participate in subsequent technology transfer and information dissemination activities associated with the project(s). Examples of such activities include conducting an “open house” for highway practitioners on the project, providing information to the FHWA for success stories, and providing briefings to the FHWA and general public on the success of the technology and process used; (b) provide information needed by HfL to evaluate the project and innovations (costs incurred as a result of supplying this information to FHWA would be an eligible project expense); and (c) accept FHWA Division Office oversight if the project is approved by HfL.

Project Selection and Evaluation

Section 1502(b)(4) of SAFETEA-LU establishes the selection criteria for approving projects for participation in the HfL pilot program. This criteria requires the Secretary to give priority to projects that:

• Address achieving the HfL performance goals for safety, construction congestion, quality and user satisfaction;

• Deliver and deploy innovative technologies, manufacturing processes, financing, contracting practices, and performance measures that will demonstrate substantial improvements in safety, congestion, quality, and cost-effectiveness;

• Include innovation that will lead to change in the administration of the State's transportation program to more quickly construct long-lasting, high-quality, cost-effective projects that improve safety and reduce congestion; and

• Are or will be ready for construction within one year of approval of the project application. For purposes of the HfL program, the FHWA considers a project to be “ready for construction” when the FHWA Division Office concurs in awarding the project.

In addition, the Secretary will also give priority to projects where the State demonstrates a willingness to participate in subsequent technology transfer and information dissemination activities associated with the project(s).

HfL project applications will be evaluated and recommendations for selection made to the Secretary of Transportation. The evaluation committee will be composed of FHWA staff who will evaluate project applications based on the priorities noted above.

Number of Projects

Section 1502 establishes a maximum of 15 projects per year that may receive HfL funding. In considering such factors as the purpose and scope of the program available funding and the various associated costs and activities needed for each HfL construction project to contribute to the desired outcome, it is proposed that the total number of HfL projects be kept at 15 per year, with the understanding that FHWA may consider adding projects to take advantage of unique opportunities.

Funding

SAFETEA-LU, Section 1101(a)(20) established total program funding at $75,000,000 through 2009, including $15,000,000 for fiscal year 2006, and $20,000,000 for each of fiscal years 2007 through 2009. This funding includes incentive grants of up to 20 percent, but not more than $5 million of the total cost of qualifying demonstration projects. A maximum of 15 projects may receive incentive funds in any fiscal year. Up to 100 percent Federal share is also allowed on HfL demonstration projects. There is a goal of providing funds for at least one project in each State by 2009. A State may also use up to 10 percent of its National Highway System, Surface Transportation Program, Congestion Mitigation and Air Quality Improvement or Interstate Maintenance funds for HfL eligible projects as matching funds up to 100 percent in any fiscal year. Based on the level of incentive funding provided in SAFETEA-LU, it is anticipated that individual project funding levels will be in the $500,000 to $1,000,000 range per project.

Spending Plan

The majority of the 2006 HfL funding, in the order of 60 percent, will be used for projects; a significant portion of the funds, approximately 30 percent, will be used for technology transfer and the remainder of the funds would be expended on technology partnerships, information dissemination and stakeholder input and involvement. This approximate distribution of funds includes the costs for monitoring and evaluation for each element. The HfL spending plan will be evaluated yearly and adjusted accordingly.

Accountability

As a means of ensuring appropriate stewardship of public funds, the HfL program will include several monitoring and evaluation efforts to measure the effectiveness of the program and projects, as well as stakeholder input and involvement procedures. Although the individual activities within the HfL program will require extensive effort and funding, there will need to be measurements beyond the basic levels of success or failure of those activities taken individually. The higher level of evaluation should reflect the primary objective of the program as a whole: to improve the highway system as indicated by measurement of safety, construction congestion, quality and user satisfaction on HfL projects.

Monitor and Evaluation

The FHWA has the lead for monitoring and evaluation of HfL projects, and would be responsible for data collection, data storage and access, analysis, and reporting. FHWA personnel and private contractors will be used for this function. The owners of HfL-funded projects would supply or provide access to data and information. Costs associated with these activities are an eligible project expense. The FHWA Division Offices would serve as points of contact and coordination between the FHWA's contractor(s) and the State.

The monitoring and evaluation effort will be used to fully describe and quantify the outputs, results, and outcomes in the goal areas and to provide an assessment of the benefits derived from the overall investment. A cost effective economic analysis on HfL projects will be conducted by the FHWA HfL using economic techniques for measuring and valuing user cost; this might include but not be limited to Event-Only Analysis, Life Cycle Cost Analysis or Benefit-Cost Analysis. The resulting information would serve as a resource to highway program decision makers on the value of the innovations demonstrated in the HfL projects, help maintain the momentum needed to achieve the HfL goals, demonstrate the value of the entire pilot program, and provide the basis for projecting the benefits gained from expanding such an approach in the future.

The monitoring and evaluation element would encompass the entire HfL program. For the HfL projects, information collected prior to, during, and immediately after construction would include a full array of highway condition, financing, design, contracting, construction, operations, and safety data, as well as user statistics and opinions. The costs, outcomes, impacts, and benefits of the technology partnerships would also be fully documented. To the extent possible, information collected for the technology transfer and information dissemination aspects would include objective measures of the effectiveness and impact of the individual activities that are undertaken, in addition to information on the costs of those activities. The information gathered on the HfL projects, technology transfer and technology partnerships will also be used in research and development for the next generation of technologies and innovations and future technology transfer initiatives.

Stakeholder Input

The HfL stakeholders include highway owners, builders, suppliers, consultants, academicians, users (commercial motor carriers, motorists, bicyclist, and pedestrians), and those impacted secondarily by highways (neighbors and adjacent landowners, receivers of goods shipped over highways). Through stakeholder input and involvement, the FHWA desires to refine the approach and implementation of the HfL program as well as to build ownership for the program. Stakeholder input and involvement will be an ongoing element of the HfL program in order to evaluate the progress of the program, consider appropriate redirection in light of progress, and assess of the overall program results. Stakeholders would have opportunities to provide input on both the HfL Implementation plan, and the conduct of the program itself, including:

• The HfL performance goals;

• Applicable technologies and practices;

• Technology partnerships approaches; and

• Evaluation of HfL outcomes and benefits including demonstration projects, technology partnerships, technology transfer and information dissemination.

The FHWA is considering several stakeholder input and involvement approaches for the HfL program. Providing information and soliciting feedback would happen routinely through notices published in the Federal Register, presentations at highway town hall meetings or regional forums, and the establishment of a web-based communications interchange site, or “Community of Practice” on the HfL Internet Web site http://www.fhwa.dot.gov/hfl/.

(Authority: Public Law 109-59 Section 1502, 23 U.S.C. 502 and 23 U.S.C. 315)

Issued on December 23, 2005.
J. Richard Capka,
Acting Federal Highway Administrator.

[FR Doc. E5-8107 Filed 12-29-05; 8:45 am]

BILLING CODE 4910-22-P